DEPARTMENT OF TRANSPORTATION

Federal Aviation Administration

14 CFR Part 39

[Docket No. 2003-NM-211-AD]

RIN 2120-AA64

Airworthiness Directives; Airbus Model A330-200 and -300 and A340-200, -300, -500, and -600 Series Airplanes

AGENCY: Federal Aviation Administration, DOT.

ACTION: Notice of proposed rulemaking (NPRM).

SUMMARY: This document proposes the adoption of a new airworthiness directive (AD) that is applicable to all Airbus Model A330-200 and -300 and A340-200, -300, -500, and -600 series airplanes. This proposal would require a one-time inspection of each emergency evacuation slide raft installed on Type “A” exit doors equipped with regulator valves having a certain part number, to determine if a discrepant regulator valve is installed on the pressure bottle that inflates the slide/raft, and an interim modification of any discrepant valve. This proposal also would require eventual modification of all affected regulator valves, which would terminate the requirements of this AD. This action is necessary to prevent failure of an emergency evacuation slide raft to deploy and inflate during an emergency situation, which could impede an evacuation and result in injury to passengers or crewmembers. This action is intended to address the identified unsafe condition.

DATES: Comments must be received by May 24, 2004.

ADDRESSES: Submit comments in triplicate to the Federal Aviation Administration (FAA), Transport Airplane Directorate, ANM-114, Attention: Rules Docket No. 2003-NM-211-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2003-NM-211-AD” in the subject line and need not be submitted in triplicate. Comments sent via the Internet as attached electronic files must be formatted in Microsoft Word 97 or 2000 or ASCII text.

The service information referenced in the proposed rule may be obtained from Airbus, 1 Rond Point Maurice Bellonte, 31707 Blagnac Cedex, France. This information may be examined at the FAA, Transport Airplane Directorate, 1601 Lind Avenue, SW., Renton, Washington.

FOR FURTHER INFORMATION CONTACT: Tim Backman, Aerospace Engineer, ANM-116, International Branch, FAA, Transport Airplane Directorate, 1601 Lind Avenue, SW., Renton, Washington 98055-4056; telephone (425) 227-2797; fax (425) 227-1149.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service information reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2003-NM-211-AD.” The postcard will be date stamped and returned to the commenter.

Availability of NPRMs

Any person may obtain a copy of this NPRM by submitting a request to the FAA, Transport Airplane Directorate, ANM-114, Attention: Rules Docket No. 2003-NM-211-AD, 1601 Lind Avenue, SW., Renton, Washington 98055-4056.

Discussion

The Direction Générale de l'Aviation Civile (DGAC), which is the airworthiness authority for France, notified the FAA that an unsafe condition may exist on all Model A330 and A340 series airplanes. The DGAC advises that, during in-service maintenance testing of the emergency escape slides on Type “A” exit doors, the slides failed to automatically deploy. The failure occurred because, when the exit door was opened, the regulator valve on the pressure bottle that inflates the escape slide did not activate. If the regulator valve does not activate, there is no gas flow to the pressure regulator and through the hoses to the aspirators that inflate the escape slide. Preliminary investigation revealed that slide rafts that have been manufactured by Goodrich since January 2000, and that have not been overhauled since installation, may be affected. Failure of an escape slide to deploy and inflate could cause the slide to be unusable during an emergency evacuation, and result in injury to passengers or crewmembers.

Explanation of Relevant Service Information

Airbus has issued the following All Operators Telexes (AOTs): AOT 25A3206, dated June 2, 2003 (for Model A330-200 and -300 series airplanes); AOT 25A4213, dated June 2, 2003 (for Model A340-200 and -300 series airplanes); and AOT 25A5036, Revision 01, dated July 22, 2003 (for Model A340-500 and -600 series airplanes). The AOTs describe procedures for a one-time maintenance task (inspection) of each emergency evacuation slide raft installed on Type “A” exit doors equipped with regulator valves having part number 4A3857-1 to determine if a discrepant regulator valve (one that does not function properly, preventing release of gas) is installed on the pressure bottle that inflates the slide/raft, and an interim modification of any discrepant regulator valve. The maintenance task also includes testing the affected regulator valve. The modification involves complete overhaul of the regulator valve or complete overhaul of the slide raft assembly, as applicable, including checking and reaming the inner diameter of the Vespel piston.

The AOTs reference Goodrich Alert Service Bulletin 25A341, Revision 1, dated May 21, 2003, as an additional source of service information for accomplishment of the inspection and modification of the regulator valves.

Accomplishment of the actions specified in the Airbus service information is intended to adequately address the identified unsafe condition. The DGAC classified this service information as mandatory and issued French airworthiness directive 2003-213(B) R1, dated August 20, 2003, to ensure the continued airworthiness of these airplanes in France.

FAA's Conclusions

These airplane models are manufactured in France and are type certificated for operation in the United States under the provisions of section 21.29 of the Federal Aviation Regulations (14 CFR 21.29) and the applicable bilateral airworthiness agreement. Pursuant to this bilateral airworthiness agreement, the DGAC has kept us informed of the situation described above. We have examined the findings of the DGAC, reviewed all available information, and determined that AD action is necessary for products of this type design that are certificated for operation in the United States.

Explanation of Requirements of Proposed AD

Since an unsafe condition has been identified that is likely to exist or develop on other airplanes of the same type design registered in the United States, the proposed AD would require accomplishment of the actions specified in the Airbus service information described previously, except as discussed below.

Differences Among French Airworthiness Directive, AOTs, and Proposed AD

The proposed AD would mandate eventual modification of regulator valves having part number 4A3857-1, per a method approved by the FAA. Accomplishment of this modification would terminate the requirements of this proposed AD. The parallel French airworthiness directive does not require a modification, and the AOTs provide for only an interim modification of affected regulator valves. The manufacturer has informed us that approval of a terminating modification that will address the unsafe condition identified in this proposed AD is imminent.

Mandating the terminating modification is based on our determination that, in this case, long-term continued operational safety would be better ensured by a modification to remove the source of the problem, in lieu of interim action without repetitive inspections to monitor the regulator valve. The source of the unsafe condition (failure of an emergency evacuation slide raft to deploy and inflate during an emergency situation) is in the design of the subject regulator valves installed on the pressure bottle that inflates the escape slide.

In developing the compliance time for the modification, we considered the degree of urgency associated with addressing the subject unsafe condition as well as the availability of required parts and the practical aspect of installing the modification within an interval of time that parallels normal scheduled maintenance for most affected operators. We have determined that 18 months for airplanes having regulator valves which have been previously modified, and 6 months for airplanes having regulator valves that have not been previously modified, represents an appropriate interval of time in which an ample number of required parts will be available to modify the affected fleet without adversely affecting the safety of these airplanes.

The AOTs recommend submitting certain information to the manufacturer, but this proposed AD does not contain such a requirement.

The French airworthiness directive specifies that slide rafts that have been overhauled previously are not affected. We have determined that the malfunction of the regulator valve is not adequately addressed by the overhaul procedures specified in Goodrich Component Maintenance Manual (CMM) 25-62-31, Revision 1, Paragraph H, which do not include reaming the inner diameter of the Vespel piston. Therefore, regulator valves installed on previously overhauled slide rafts are not exempt from the proposed AD.

The compliance times for the inspection of the regulator valves of the slide rafts recommended in the French airworthiness directive and the AOTs are determined by the date of manufacture of the slide raft, and specify inspecting at least half of the affected valves in 3 months, and inspecting the remainder of the valves 3 months after the first half are inspected. However, since the regulator valve on all affected slide rafts is the same design, we have determined the compliance time for the inspection of all regulator valves on all airplanes affected by this proposed AD to be within 6 months after the effective date of the AD. In developing an appropriate compliance time for this AD, we considered the degree of urgency associated with the subject unsafe condition and the average utilization of the affected fleet. In light of these factors, we find that a 6-month compliance time represents an appropriate interval of time for affected airplanes to continue to operate without compromising safety.

These differences have been coordinated with the DGAC.

Clarification of Inspection

The AOTs specify “one-time maintenance” to determine if a certain discrepant regulator valve is installed, but we have clarified the requirement contained in the proposed AD as a one-time general visual inspection. Note 1 has been added to this proposed AD define that inspection.

Cost Impact

We estimate that 14 Model A330 series airplanes of U.S. registry would be affected by this proposed AD.

It would take about 1 work hour per slide (8 slides per airplane) to accomplish the proposed inspection, at an average labor rate of $65 per work hour. Based on these figures, the cost impact of the proposed inspection on U.S. operators is estimated to be $7,280, or $520 per airplane.

It would take about 13 work hours per slide (8 slides per airplane) to accomplish the proposed modification, at an average labor rate of $65 per work hour. Required parts would be provided by the manufacturer at no cost to operators. Based on these figures, the cost impact of the proposed modification on U.S. operators is estimated to be $94,640, or $6,760 per airplane.

The cost impact figures discussed above are based on assumptions that no operator has yet accomplished any of the proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Currently, there are no Model A340 series airplanes on the U.S. Register. However, should an affected airplane be imported and placed on the U.S. Register in the future, it would require 1 work hour per slide (8 slides per airplane) to accomplish the proposed inspection; and 13 work hours per slide (8 slides per airplane) to accomplish the proposed modification, at an average labor rate of $65 per work hour. Required parts would be provided by the manufacturer at no cost to operators. Based on these figures, the cost impact of the proposed inspection would be $65 per slide and the proposed modification would be $6,760 per airplane for Model A340 operators.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

Airbus: Docket 2003-NM-211-AD.

Applicability: All Model A330-200 and -300 and A340-200, -300, -500, and -600 series airplanes; certificated in any category.

Compliance: Required as indicated, unless accomplished previously.

To prevent failure of an emergency evacuation slide raft to deploy and inflate during an emergency situation, which could impede an evacuation and result in injury to passengers or crewmembers, accomplish the following:

Service Information References

(a) The following information pertains to the service information referenced in paragraphs (b) and (c) of this AD:

(1) The term “All Operators Telex” (AOT) as used in this AD, means the Accomplishment Instructions of AOT 25A3206, dated June 2, 2003 (for Model A330-200 and -300 series airplanes); AOT 25A4213, dated June 2, 2003 (for Model A340-200 and -300 series airplanes); and AOT 25A5036, Revision 01, dated July 22, 2003 (for Model A340-500 and -600 series airplanes).

(2) Accomplishment of the actions before the effective date of this AD per AOT 25A5036, dated June 2, 2003, is considered acceptable for compliance with the corresponding actions specified in this AD.

(3) The AOTs refer to Goodrich Service Bulletin 25A341, Revision 1, dated May 21, 2003, as an additional source of service information for accomplishment of the actions specified in the AOTs.

(4) Although the AOTs referenced in this AD specify to submit certain information to the manufacturer, this AD does not include such a requirement.

Inspection/Modification

(b) Within 6 months after the effective date of this AD, do a one-time general visual inspection of each slide raft to determine if a discrepant regulator valve (one that does not function properly, preventing release of gas) is installed on the pressure bottle that inflates the slide/raft. Do the inspection per the applicable AOT.

(1) If any discrepant regulator valve is found: Before further flight, do the interim modification of the regulator valve for that slide raft only, per the applicable AOT.

(2) If no discrepant regulator valve is found, no further action is required by this paragraph.

Note 1: For the purposes of this AD, a general visual inspection is defined as: “A visual examination of an interior or exterior area, installation, or assembly to detect obvious damage, failure, or irregularity. This level of inspection is made from within touching distance unless otherwise specified. A mirror may be necessary to enhance visual access to all exposed surfaces in the inspection area. This level of inspection is made under normally available lighting conditions such as daylight, hangar lighting, flashlight, or droplight and may require removal or opening of access panels or doors. Stands, ladders, or platforms may be required to gain proximity to the area being checked.”

Terminating Modification

(c) Except as required by paragraph (b)(1) of this AD: Modify any regulator valve having P/N 4A3857-1, at the applicable time specified in paragraph (c)(1) or (c)(2) of this AD, per a method approved by the Manager, International Branch, ANM-116, FAA, Transport Airplane Directorate. Accomplishment of this paragraph terminates the requirements of this AD.

(1) For airplanes on which the regulator valves have been modified per the applicable AOT as of the effective date of this AD: Within 18 months after the effective date of this AD.

(2) For airplanes on which the regulator valves have not been modified per the applicable AOT as of the effective date of this AD: Within 6 months after the effective date of this AD.

Alternative Methods of Compliance

(d) In accordance with 14 CFR 39.19, the Manager, International Branch, ANM-116, is authorized to approve alternative methods of compliance for this AD.

Note 2: The subject of this AD is addressed in French airworthiness directive 2003-213(B) R1, dated August 20, 2003.

Issued in Renton, Washington, on April 15, 2004.
Michael J. Kaszycki,
Acting Manager, Transport Airplane Directorate, Aircraft Certification Service.

[FR Doc. 04-9111 Filed 4-21-04; 8:45 am]

BILLING CODE 4910-13-P